DEPARTMENT OF ENERGY

Federal Energy Regulatory Commission

[Docket No. RP96-312-157]

Tennessee Gas Pipeline Company; Notice of Negotiated Rate Filing

September 5, 2006.

Take notice that on August 30, 2006, Tennessee Gas Pipeline Company (Tennessee) tendered for filing the following agreements and requests that the Commission approve the filing effective on the commencement date of the Shippers' FT-A Service Agreements:

(1) A gas transportation agreement between Tennessee and Anadarko Petroleum Corporation (Anadarko) pursuant to Tennessee's Rate Schedule FT-A dated August 28, 2006;

(2) A negotiated rate letter agreement between Tennessee and Anadarko dated February 3, 2006;

(3) A gas transportation agreement between Tennessee and Devon Energy Production Company, L.P. (Devon) pursuant to Tennessee's Rate Schedule FT-A dated August 28, 2006;

(4) A negotiated rate letter agreement between Tennessee and Devon dated February 3, 2006;

(5) A gas transportation agreement between Tennessee and Dominion Exploration and Production Company, Inc. (Dominion) pursuant to Tennessee's Rate Schedule FT-A dated August 28, 2006;

(6) A negotiated rate letter agreement between Tennessee and Dominion dated February 3, 2006;

(7) A gas transportation agreement between Tennessee and Hydro Gulf of Mexico, L.L.C. (Hydro) pursuant to Tennessee's Rate Schedule FT-A dated August 28, 2006;

(8) A negotiated rate letter agreement between Tennessee and Hydro dated February 3, 2006;

(9) A gas transportation agreement between Tennessee and Kerr-McGee Oil and Gas Corporation (Kerr-McGee) pursuant to Tennessee's Rate Schedule FT-A dated August 28, 2006; and

(10) A negotiated rate letter agreement between Tennessee and Kerr-McGee dated February 3, 2006.

Tennessee submits the gas transportation agreements and negotiated rate letter agreements to seek Commission approval of negotiated rate arrangements between Tennessee and Anadarko, Devon, Dominion, Hydro, and Kerr-McGee, respectively. Additionally, Tennessee submits the gas transportation agreements between Tennessee and Anadarko, Devon, Dominion, Hydro, and Kerr-McGee, respectively, because the gas transportation agreements contain provisions that deviate from Tennessee's pro forma Firm Transportation Agreement. Tennessee is therefore submitting the agreements for Commission review and approval.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-14979 Filed 9-8-06; 8:45 am]

BILLING CODE 6717-01-P